NATIONAL TRANSPORTATION SAFETY BOARD

Meetings; Sunshine Act; Agenda

TIME AND PLACE: 9:30 a.m., Wednesday, February 26, 2003.

PLACE. NTSB Conference Center, 429 L'Enfant Plaza, SW., Washington, DC 20594.

STATUS: The one item is open to the public.

MATTERS TO BE CONSIDERED:

7532 Highway Accident Report—Collision of Greyhound Lines, Inc., Motorcoach and DelCar Trucking Truck Tractor-Semitrailer, Loraine, Texas, on June 9, 2002.

News Media Contact: Telephone (202) 314-6100.

Individuals requesting specific accommodations should contact Ms. Carolyn Dargan at (202) 314-6305 by Friday, February 21, 2003.

FOR FURTHER INFORMATION CONTACT: Vicky D'Onofrio, (202) 314-6410.

Dated: February 14, 2003.
Vicky D'Onofrio,
Federal Register Liaison Officer.

[FR Doc. 03-4084 Filed 2-14-03; 12:15 pm]

BILLING CODE 7533-01-M